INTERNATIONAL TRADE COMMISSION

[Investigation No. 337-TA-707]

In the Matter of Certain Dynamic Random Access Memory Semiconductors and Products Containing Same, Including Memory Modules; Notice of a Commission Determination Not To Review an Initial Determination Terminating the Investigation as to All Remaining Respondents

AGENCY: U.S. International Trade Commission.

ACTION: Notice.

SUMMARY: Notice is hereby given that the U.S. International Trade Commission has determined not to review an initial determination (“ID”) (Order No. 10) of the presiding administrative law judge (“ALJ”) terminating the above-captioned investigation as to all remaining respondents based on a settlement agreement.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 25, 2010, based on a complaint filed on February 19, 2010, by Infineon Technologies AG of Germany and Infineon Technologies North America Corp. of Milpitas, California (collectively “complainants”). 75 FR 14467-68 (March 25, 2010). The complaint, as amended, alleges violations of section 337 of the Tariff Act of 1930, as amended, 19 U.S.C. 1337, in the importation into the United States, the sale for importation, and the sale within the United States after importation of certain dynamic random access memory semiconductors and products containing same, including memory modules, by reason of infringement of certain claims of U.S. Patent Nos. 5,480,051; 5,422,309; 5,397,664; and 7,071,074. The complaint further alleges that an industry in the United States exists as required by subsection (a)(2) of section 337. The complaint names numerous respondents including Buffalo Inc. of Japan and Buffalo Technology (USA), Inc. of Austin, Texas (collectively, “the Buffalo respondents”).

On May 25, 2010, the Commission issued notice of its determination not to review the ALJ's ID terminating the Buffalo respondents based upon a consent order. On June 18, 2010, complainants and a majority of the remaining respondents moved to terminate the investigation as to all remaining respondents based upon a settlement agreement.

The ALJ issued the subject ID (Order No. 10) on June 29, 2010, granting the joint motion for termination. He found that the motion for termination satisfies Commission rules 210.21(a)(2), (b)(1). He further found, pursuant to Commission rule 210.50(b)(2), that termination of this investigation as to all remaining respondents by settlement agreement is in the public interest. No party petitioned for review of the ID. The Commission has determined not to review the ID.

The authority for the Commission's determination is contained in section 337 of the Tariff Act of 1930, as amended, 19 U.S.C. 1337, and in sections 210.21 and 210.42(h) of the Commission's Rules of Practice and Procedure, 19 CFR 210.21, 210.42(h).

By order of the Commission.
Issued: July 22, 2010.
Marilyn R. Abbott,
Secretary to the Commission.

[FR Doc. 2010-18528 Filed 7-27-10; 8:45 am]

BILLING CODE 7020-02-P